DEPARTMENT OF AGRICULTURE

Forest Service

Forest Service Manual 7700 Travel Management; Chapter 7700, Zero Code; Chapter 7710 Travel Planning

AGENCY: Forest Service, Agriculture (USDA).

ACTION: Notice of availability for public comment.

SUMMARY: The United States Department of Agriculture (USDA), Forest Service, is proposing to revise its directives to update and clarify guidance on management of electric bicycle (e-bike) use on National Forest System (NFS) lands. E-bikes have become increasingly popular nationwide among outdoor recreationists on NFS and other federal lands. E-bikes expand recreational opportunities for many people, particularly the elderly and disabled, enabling them to enjoy the outdoors and associated health benefits. Currently e-bike use is not allowed on NFS roads, on NFS trails, and in areas on NFS lands that are not designated for motor vehicle use. To promote designation of NFS roads, NFS trails, and areas on NFS lands for e-bike use, the proposed revisions include new definitions for an e-bike and a Class 1, Class 2, and Class 3 e-bike, as well as guidance and criteria for designating e-bike use on NFS roads, on NFS trails, and in areas on NFS lands.

DATES: Comments must be received in writing by October 26, 2020.

ADDRESSES: Comments may be submitted electronically to https://cara.ecosystem-management.org/Public/ReadingRoom?project=ORMS-2619. Written comments may be mailed to Director, Recreation Staff, 1400 Independence Avenue SW, Washington, DC 20250-1124. All timely received comments, including names and addresses, will be placed in the record and will be available for public inspection and copying. The public may inspect comments received at https://cara.ecosystem-management.org/Public/CommentInput?project=ORMS-2619.

FOR FURTHER INFORMATION CONTACT: Penny Wu, Recreation Staff, penny.wu@usda.gov, (303) 275-5168. Individuals who use telecommunication devices for the deaf may call the Federal Relay Service at (800) 877-8339 between 8:00 a.m. and 8:00 p.m., Eastern Standard Time, Monday through Friday.

SUPPLEMENTARY INFORMATION: Over 27 States have adopted a standard definition for an e-bike and a three-tiered classification system for e-bikes. Additionally, the United States Department of the Interior (DOI) recently issued proposed e-bike rules for the Bureau of Land Management, U.S. Fish and Wildlife Service, Bureau of Reclamation, and the National Park Service pursuant to a Secretarial Order that promotes e-bike use on DOI-managed federal lands.

The Forest Service's proposed directive revisions align with the 27 States and DOI's proposed e-bike rules in adopting a standard definition for an e-bike and a three-tiered classification for e-bikes and align with DOI's proposed e-bike rules in requiring site-specific decision-making and environmental analysis at the local level to allow e-bike use. In particular, the proposed revisions would add a paragraph to Forest Service Manual (FSM) 7702 to establish promotion of e-bike use on NFS lands as an objective; would add a cross-reference in FSM 7703.13 and 7703.14 to specific guidance on designating NFS trails and areas on NFS lands for motor vehicle use; would add definitions in FSM 7705 for “bicycle” and “e-bike,” including “Class 1,” “Class 2,” and “Class 3 e-bike”; would revise FSM 7711.3, paragraph 6, to add a category for designating e-bike use on NFS trails; would add a paragraph to FSM 7715.03 to establish promotion of e-bike use on NFS lands as a policy; would revise FSM 7715.5 to add a criterion to consider trail management objectives in designating trails for motor vehicle use generally and to add criteria and guidance for designating e-bike use on NFS trails; and to add a paragraph in FSM 7715.72 to enhance coordination with appropriate Federal, State, and local governmental entities and Tribal governments on travel management decisions and operational practices on routes crossing multiple jurisdictions to provide continuity of recreation experiences.

After the public comment period closes, the Forest Service will consider timely comments that are within the scope of the proposed revisions to the directives in the development of the final revisions. A notice of the final revisions, including a response to timely comments, will be posted on the Forest Service's web page at https://www.fs.fed.us/about-agency/regulations-policies.

Tina Johna Terrell,
Associate Deputy Chief, National Forest System.

[FR Doc. 2020-21128 Filed 9-23-20; 8:45 am]

BILLING CODE 3411-15-P